DEPARTMENT OF HOMELAND SECURITY

Federal Emergency Management Agency

[Docket ID FEMA-2019-0002]

Changes in Flood Hazard Determinations

AGENCY: Federal Emergency Management Agency, DHS.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and are used to calculate the appropriate flood insurance premium rates for new buildings, and for the contents in those buildings. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Michael M. Grimm,
Assistant Administrator for Risk Management, Department of Homeland Security, Federal Emergency Management Agency.

State and county | Location and case No. | Chief executive officer of community | Community map repository | Date of modification | Community No.
Alabama:
Madison (FEMA Docket No.: B-1848 | City of Madison (17-04-4981P) | The Honorable Paul Finley, Mayor, City of Madison, 100 Hughes Road, Madison, AL 35758 | Engineering Department, 100 Hughes Road, Madison, AL 35758 | Nov. 8, 2018 | 010308
Morgan (FEMA Docket No.: B-1852) | City of Decatur (18-04-5607P) | The Honorable Tab Bowling, Mayor, City of Decatur, P.O. Box 488, Decatur, AL 35602 | Building Department, 402 Lee Street Northeast, 4th Floor, Decatur, AL 35601 | Dec. 7, 2018 | 010176
Morgan (FEMA Docket No.: B-1852) | City of Decatur (18-04-5608P) | The Honorable Tab Bowling, Mayor, City of Decatur, P.O. Box 488, Decatur, AL 35602 | Building Department, 402 Lee Street Northeast, 4th Floor, Decatur, AL 35601 | Dec. 7, 2018 | 010176
Morgan (FEMA Docket No.: B-1852) | Unincorporated areas of Morgan County (18-04-5608P) | The Honorable Ray Long, Chairman, Morgan County Commission, P.O. Box 668, Decatur, AL 35602 | Morgan County Engineering Department, 580 Shull Road Northeast, Hartselle, AL 35640 | Dec. 7, 2018 | 010175
Shelby (FEMA Docket No.: B-1855) | City of Helena (18-04-3885P) | The Honorable Mark R. Hall, Mayor, City of Helena, 816 Highway 52 East, Helena, AL 35080 | City Hall, 816 Highway 52 East, Helena, AL 35080 | Dec. 10, 2018 | 010294
Shelby (FEMA Docket No.: B-1855) | City of Pelham (18-04-3885P) | The Honorable Gary W. Waters, Mayor, City of Pelham, 3162 Pelham Parkway, Pelham, AL 35124 | City Hall, 3162 Pelham Parkway, Pelham, AL 35124 | Dec. 10, 2018 | 010193
Colorado:
Adams (FEMA Docket No.: B-1855) | City of Commerce City (18-08-0619P) | The Honorable Sean Ford, Mayor, City of Commerce City, 7887 East 60th Avenue, Commerce City, CO 80022 | City Hall, 5291 East 60th Avenue, Commerce City, CO 80022 | Dec. 5, 2018 | 080006
Adams (FEMA Docket No.: B-1855) | Unincorporated areas of Adams County (18-08-0619P) | The Honorable Mary Hodge, Chair, Adams County Board of Commissioners, 4430 South Adams County Parkway, 5th Floor, Suite C5000A, Brighton, CO 80601 | Adams County Community and Economic Development Department, 4430 South Adams County Parkway, Brighton, CO 80601 | Nov. 2, 2018 | 080024
Douglas (FEMA Docket No.: B-1852) | Unincorporated areas of Douglas County (17-08-1424P) | The Honorable Lora Thomas, Chair, Douglas County Board of Commissioners, 100 3rd Street, Castle Rock, CO 80104 | Douglas County Public Works Engineering Division, 100 3rd Street, Castle Rock, CO 80104 | Dec. 14, 2018 | 080049
Garfield (FEMA Docket No.: B-1852) | City of Rifle (18-08-0106P) | Mr. Davis Farrar, Interim City Manager, City of Rifle, 202 Railroad Avenue, Rifle, CO 81650 | City Hall, 202 Railroad Avenue, Rifle, CO 81650 | Nov. 23, 2018 | 085078
Garfield (FEMA Docket No.: B-1852) | Unincorporated areas of Garfield County (18-08-0106P) | The Honorable John Martin, Chairman, Garfield County Board of Commissioners, 108 8th Street, Suite 101, Glenwood Springs, CO 81601 | Garfield County Courthouse, 109 8th Street, Glenwood Springs, CO 81601 | Nov. 23, 2018 | 080205
Connecticut:
New Haven (FEMA Docket No.: B-1852) | Town of Cheshire (17-01-2563P) | The Honorable Rob Oris, Jr., Chairman, Town of Cheshire Council, 84 South Main Street, Cheshire, CT 06410 | Town Hall, 84 South Main Street, Cheshire, CT 06410 | Dec. 7, 2018 | 090074
Florida:
Collier (FEMA Docket No.: B-1855) | City of Naples (18-04-4573P) | The Honorable Bill Barnett, Mayor, City of Naples, 735 8th Street South, Naples, FL 34102 | Building Department, 295 Riverside Circle, Naples, FL 34102 | Dec. 7, 2018 | 125130
Lee (FEMA Docket No.: B-1855) | City of Sanibel (18-04-4404P) | The Honorable Kevin Ruane, Mayor, City of Sanibel, 800 Dunlop Road, Sanibel, FL 33957 | Planning Department, 800 Dunlop Road, Sanibel, FL 33957 | Dec. 7, 2018 | 120402
Lee (FEMA Docket No.: B-1852) | City of Sanibel (18-04-5183P) | The Honorable Kevin Ruane, Mayor, City of Sanibel, 800 Dunlop Road, Sanibel, FL 33957 | Planning Department, 800 Dunlop Road, Sanibel, FL 33957 | Dec. 17, 2018 | 120402
Monroe (FEMA Docket No.: B-1852) | Unincorporated areas of Monroe County (18-04-4626P) | The Honorable David Rice, Mayor, Monroe County Board of Commissioners, 9400 Overseas Highway, Suite 210, Marathon, FL 33050 | Monroe County Building Department, 2798 Overseas Highway, Suite 300, Marathon, FL 33050 | Dec. 12, 2018 | 125129
Monroe (FEMA Docket No.: B-1852) | Unincorporated areas of Monroe County (18-04-4628P) | The Honorable David Rice, Mayor, Monroe County Board of Commissioners, 9400 Overseas Highway, Suite 210, Marathon, FL 33050 | Monroe County Building Department, 2798 Overseas Highway, Suite 300, Marathon, FL 33050 | Dec. 14, 2018 | 125129
Massachusetts:
Barnstable (FEMA Docket No.: B-1852) | Town of Mashpee (18-01-1102P) | The Honorable Thomas F. O'Hara, Chairman, Town of Mashpee Board of Selectmen, 16 Great Neck Road North, Mashpee, MA 02649 | Building Department, 16 Great Neck Road North, Mashpee, MA 02649 | Dec. 10, 2018 | 250009
Barnstable (FEMA Docket No.: B-1855) | Town of Truro (18-01-0789P) | The Honorable Robert Weinstein, Chairman, Town of Truro Board of Selectmen, 24 Town Hall Road, Truro, MA 02666 | Building Department, 24 Town Hall Road, Truro, MA 02666 | Dec. 17, 2018 | 255222
Barnstable (FEMA Docket No.: B-1855) | Town of Wellfleet (18-01-0789P) | The Honorable Janet Reinhart, Chair, Town of Wellfleet Board of Selectmen, 300 Main Street, Wellfleet, MA 02667 | Building Department, 220 West Main Street, Wellfleet, MA 02667 | Dec. 17, 2018 | 250014
New Mexico:
Bernalillo (FEMA Docket No.: B-1855) | City of Albuquerque (18-06-0625P) | The Honorable Tim Keller, Mayor, City of Albuquerque, P.O. Box 1293, Albuquerque, NM 87103 | Development Review Services Division, 600 2nd Street Northwest, Albuquerque, NM 87102 | Dec. 17, 2018 | 350002
Bernalillo (FEMA Docket, No.: B-1855) | Unincorporated areas of Bernalillo County (18-06-0625P) | Ms. Julie Morgas Baca, Bernalillo County Manager, 1 Civic Plaza Northwest, 10th Floor, Albuquerque, NM 87102 | Bernalillo County Public Works Division, 2400 Broadway Boulevard Southeast, Albuquerque, NM 87102 | Dec. 17, 2018 | 350001
North Carolina:
Montgomery (FEMA Docket No.: B-1871) | Unincorporated areas of Montgomery County (18-04-1965P | The Honorable Jackie Morris, Chairman, Montgomery County Board of Commissioners, 102 East Spring Street, Troy, NC 27371 | Montgomery County Inspections and Zoning Department, 219 South Main Street, Troy, NC 27371 | Nov. 23, 2018 | 370336
Warren (FEMA Docket, No.: B-1863) | Unincorporated areas of Warren County (18-04-2099P) | The Honorable Victor Hunt, Chairman, Warren County Board of Commissioners, 602 West Ridgeway Street, Warrenton, NC 27589 | Warren County Planning, Zoning & Code Enforcement Department, 542 West Ridgeway Street, Warrenton, NC 27589 | Dec. 27, 2018 | 370396
North Dakota: Oliver (FEMA Docket No.: B-1852) | City of Center (17-08-1350P) | The Honorable Harold Wilkens, Mayor, City of Center, P.O. Box 76, Center, ND 58530 | City Hall, 312 Lincoln Avenue, Center, ND 58530 | Dec. 7, 2018 | 380078
Oklahoma: Canadian (FEMA Docket No.: B-1852) | City of Oklahoma City (18-06-1144P) | The Honorable David Holt, Mayor, City of Oklahoma City, 200 North Walker Avenue, 3rd Floor, Oklahoma City, OK 73102 | Department of Public Works, 420 West Main Street, Suite 700, Oklahoma City, OK 73102 | Dec. 6, 2018 | 405378
South Carolina:
Berkeley (FEMA Docket No.: B-1848) | Unincorporated areas of Berkeley County (17-04-6038P) | The Honorable William W. Peagler, III, Supervisor, Berkeley County, P.O. Box 6122, Moncks Corner, SC 29461 | Berkeley County Planning and Zoning Department, 1003 Highway 52, Moncks Corner, SC 29461 | Dec. 10, 2018 | 450029
Berkeley (FEMA Docket No.: B-1852) | Unincorporated areas of Berkeley County (18-04-3970P) | The Honorable William W. Peagler, III, Chairman, Berkeley County Council, 1003 Highway 52, Moncks Corner, SC 29461 | Berkeley County Planning and Zoning Department, 1003 Highway 52, Moncks Corner, SC 29461 | Dec. 10, 2018 | 450029
Berkeley (FEMA Docket No.: B-1848 | Unincorporated areas of Berkeley County (18-04-3971P) | The Honorable William W. Peagler, III, Supervisor, Berkeley County, P.O. Box 6122, Moncks Corner, SC 29461 | Berkeley County Planning and Zoning Department, 1003 Highway 52, Moncks Corner, SC 29461 | Dec. 10, 2018 | 450029
Texas:
Bexar (FEMA Docket No.: B-1852) | Unincorporated areas of Bexar County (18-06-1810P) | The Honorable Nelson W. Wolff, Bexar County Judge, 101 West Nueva Street, 10th Floor, San Antonio, TX 78205 | Bexar County Public Works Department, 233 North Pecos-La Trinidad Street, Suite 420, San Antonio, TX 78207 | Dec. 17, 2018 | 480035
Bexar (FEMA Docket No.: B-1852) | Unincorporated areas of Bexar County (18-06-2765X) | The Honorable Nelson W. Wolff, Bexar County Judge, 101 West Nueva Street, 10th Floor, San Antonio, TX 78205 | Bexar County Public Works Department, 233 North Pecos-La Trinidad Street, Suite 420, San Antonio, TX 78207 | Dec. 10, 2018 | 480035
Dallas (FEMA Docket No.: B-1855) | Town of Sunnyvale (18-06-1127P) | The Honorable Saji George, Mayor, Town of Sunnyvale, 127 North Collins Road, Sunnyvale, TX 75182 | Development Services Department, 127 North Collins Road, Sunnyvale, TX 75182 | Dec. 7, 2018 | 480188
Rockwall (FEMA Docket No.: B-1855) | City of Heath (18-06-0869P) | The Honorable Kelson Elam, Mayor, City of Heath, 200 Laurence Drive, Heath, TX 75032 | City Hall, 200 Laurence Drive, Heath, TX 75032 | Dec. 10, 2018 | 480545
Virginia: Fairfax (FEMA Docket No.: B-1852) | Unincorporated areas of Fairfax County (18-03-1757X) | Mr. Bryan Hill, Fairfax County Executive, 12000 Government Center Parkway, Fairfax, VA 22035 | Fairfax County Stormwater Planning Division, 12000 Government Center Parkway, Suite 449, Fairfax, VA 22035 | Dec. 10, 2018 | 515525

[FR Doc. 2019-03021 Filed 2-21-19; 8:45 am]

BILLING CODE 9110-12-P